NUCLEAR REGULATORY COMMISSION

[DOCKET NO. 52-024]

Entergy Operations, Inc, et al.; Grand Gulf Nuclear Station Combined License Application; Notice of Intent To Prepare an Environmental Impact Statement and Conduct Scoping Process

Entergy Operations, Inc. (Entergy) on behalf of itself; Entergy Mississippi Inc.; Entergy Louisiana, LLC; Entergy Gulf States Louisiana, LLC; and System Energy Resources, Inc., has submitted an application for a combined license (COL) for its Grand Gulf Nuclear Station (Grand Gulf) site to build Unit 3, located in Claiborne County, Mississippi, near Port Gibson, approximately 30 miles south of Vicksburg. The application for the COL was submitted by letter dated February 27, 2008, pursuant to the requirements of Title 10, Part 52, Subpart C. A notice of receipt and availability of the application, which included the Environmental Report (ER), was published in the Federal Register on March 19, 2008 (73 FR 14849). A notice of acceptance for docketing of the application for the COL was published in the Federal Register on April 24, 2008 (73 FR 22180).

The purpose of this notice is to inform the public that the U.S. Nuclear Regulatory Commission (NRC) will be preparing a supplemental environmental impact statement (EIS) in support of the proposed action of the issuance of a COL for the construction and operation of a nuclear power plant, as described in the COL application, at the Grand Gulf site described in early site permit (ESP) ESP-002 referenced in the COL application and to provide the public an opportunity to participate in the environmental scoping process, as defined in 10 CFR 51.29. In addition, as outlined in 36 CFR 800.8(c), “Coordination with The National Environmental Policy Act (NEPA)”, the NRC staff intends to use the process and documentation required for the preparation of the EIS to comply with Section 106 of the National Historic Preservation Act, in lieu of the procedures set forth in 36 CFR 800.3 through 800.6.

On April 5, 2007, the NRC issued ESP-002 to System Energy Resources, Inc. for the Grand Gulf site (the site of the proposed third reactor). An ESP is a NRC approval of a site as suitable for construction and operation of one or more new nuclear units. The NRC's detailed review of the environmental impacts of constructing and operating a new nuclear unit is documented in NUREG-1817, “Environmental Impact Statement for an Early Site Permit at the Grand Gulf ESP Site.” Pursuant to NRC regulations in 10 CFR 51.50(c)(1), a COL applicant referencing an ESP need not submit information or analyses regarding environmental issues that were resolved in the ESP EIS, except to the extent the COL applicant has identified new and significant information regarding such issues. Pursuant to 10 CFR 52.39, matters resolved in the ESP proceedings are considered to be resolved in any subsequent proceedings, absent identification of new and significant information.

In accordance with 10 CFR 51.45 and 10 CFR 51.50(c)(1), Entergy submitted an ER as part of the COL application, which need not contain information or analysis submitted in the ER for the ESP stage or resolved in the final EIS for the ESP stage. The ER for the COL stage, in addition to the environmental information and analyses otherwise required must provide:

a. Information to demonstrate that the design of the facility falls within the site characteristics and design parameters specified in the ESP;

b. Information to resolve any significant environmental issues that were not resolved in the ESP;

c. New and significant information related to impacts of construction and operation that were resolved in the ESP;

d. A description of the process used to identify new and significant information regarding the NRC's conclusion in the EIS for the ESP; and

e. A demonstration that all environmental terms and conditions that have been included in the ESP will be satisfied by the date of issuance of the combined license.

The COL ER is available for public inspection at the NRC Public Document Room (PDR), located at One White Flint North, 11555 Rockville Pike (first floor), Rockville, Maryland, or from the Publicly Available Records component of the NRC's Agency-wide Documents Access and Management System (ADAMS). ADAMS is accessible at http://www.nrc.gov/reading-rm/adams.html, which provides access through the NRC's Electronic Reading Room (ERR) link. The accession number in ADAMS for the ER is ML080640404. Persons who do not have access to ADAMS or who encounter problems in accessing the documents located in ADAMS should contact the NRC's PDR Reference staff at 1-800-397-4209 or 301-415-4737, or by sending an e-mail to pdr.resource@nrc.gov. The application may also be viewed on the Internet at http://www.nrc.gov/reactors/new-licensing/col/grand-gulf.html. In addition, the Harriette Person Memorial Library has agreed to make the ER available for public inspection.

The following key reference documents related to the COL application and the NRC staff's review process are available through the NRC's Web site at http://www.nrc.gov:

a. 10 CFR Part 51, Environmental Protection Regulations for Domestic Licensing and Related Regulatory Functions,

b. 10 CFR Part 52, Licenses, Certifications, and Approvals for Nuclear Power Plants,

c. 10 CFR Part 100, Reactor Site Criteria,

d. NUREG-1555, Standard Review Plans for Environmental Reviews for Nuclear Power Plants,

e. NUREG/BR-0298, Brochure on Nuclear Power Plant Licensing Process,

f. Fact Sheet on Nuclear Power Plant Licensing Process,

g. Regulatory Guide 4.2, Preparation of Environmental Reports for Nuclear Power Stations,

h. Regulatory Guide 1.206, Combined License Applications for Nuclear Power Plants,

i. NRR Office Instruction LIC-203, Procedural Guidance for Preparing Environmental Assessments and Considering Environmental Issues, and

j. NUREG-1817, Environmental Impact Statement for an Early Site Permit at the Grand Gulf ESP Site.

The regulations, NUREG-series documents, regulatory guides, and fact sheet can be found under Document Collections in the Electronic Reading Room on the NRC Web page. Finally, Office Instruction LIC-203 can be found in ADAMS in two parts under accession numbers ML011710073 (main text) and ML011780314 (charts and figures).

This notice advises the public that the NRC intends to gather the information necessary to prepare a supplemental EIS related to the review of the application for a COL at the Grand Gulf site in accordance with 10 CFR 51.92(e).

The NRC is required by 10 CFR 51.20(b)(2) to prepare an EIS in connection with the issuance of a COL. This notice is being published in accordance with NEPA and NRC regulations found in 10 CFR Part 51. The NRC will first conduct a scoping process for the supplemental EIS and, as soon as practicable thereafter, will prepare a draft supplemental EIS for public comment. Participation in the scoping process by members of the public and local, State, Tribal, and Federal government agencies is encouraged. Pursuant to NRC regulations in 10 CFR 51.92(c)(1), the scoping process for the supplemental EIS to the ESP Final EIS will be used to accomplish the following:

a. Identification of the economic, technical, and other benefits and costs of the proposed action, to the extent that the Final EIS for the ESP did not include an assessment of these benefits and costs;

b. Identification of other energy alternatives, to the extent that the Final EIS for the ESP did not include an assessment of energy alternatives;

c. Identification of the issues related to the impacts of construction and operation of the facility that were not resolved in the ESP proceeding; and

d. Identification of the issues related to the impacts of construction and operation that were resolved in the ESP proceeding but where new and significant information exists, including but not limited to, new and significant information demonstrating that the design of the facility falls outside the site characteristics and design parameters specified in the ESP.

The NRC will hold two public scoping meetings regarding the Grand Gulf COL application on Thursday, June 19, 2008, at the Port Gibson City Hall in Port Gibson, Mississippi. The first meeting will convene at 1 p.m. and will continue until approximately 4 p.m. An evening meeting will convene at 7 p.m. on that same day and will continue until approximately 10 p.m. The meeting will be transcribed and will include: (1) An overview by the NRC staff of the NEPA environmental review process, the proposed scope of the EIS, the proposed review schedule, and (2) the opportunity to submit comments or suggestions on the environmental issues or the proposed scope of the EIS. Additionally, the NRC staff will host an informal discussion one hour before the start of each meeting. No formal comments on the proposed scope of the EIS will be accepted during the informal discussion open house. To be considered, comments must be provided either at the transcribed public meeting or in writing, as discussed below. Persons may register to attend or present oral comments at the meeting on the scope of the NEPA review by contacting Ms. Tamsen Dozier or Mr. Paul Michalak at 1-800-368-5642, extension 2272 or 7612, respectively. In addition, persons can register via e-mail to the NRC GRANDGULF.COLAEIS@nrc.gov no later than June 12, 2008.

Members of the public may also register to speak at the meeting within 15 minutes of the start of the meeting. Individual oral comments may be limited by the time available, depending on the number of persons who register. Members of the public who have not registered may also have an opportunity to speak, if time permits. Public comments will be considered in the scoping process for the EIS. Ms. Dozier or Mr. Michalak will need to be contacted no later than June 9, 2008, if special equipment or accommodations are needed to attend or present information at the public meeting, so that the NRC staff can determine whether the request can be accommodated.

Members of the public may send written comments on the environmental scope of the Grand Gulf COL review to the Chief, Rulemaking, Directives and Editing Branch, Division of Administrative Services, Office of Administration, Mailstop T-6D59, U.S. Nuclear Regulatory Commission, Washington, DC 20555-0001 and should cite the publication date and page number of this Federal Register notice. Written comments should be postmarked by July 29, 2008. Comments may also be delivered to Room T-6D59, Two White Flint North, 11545 Rockville Pike, Rockville, Maryland from 7:30 a.m. to 4:15 p.m., during Federal workdays. Electronic comments may be sent via e-mail to GRANDGULF.COLAEIS@nrc.gov. To be considered in the scoping process, comments should be received by the end of the scoping comment period, which is July 29, 2008.

Participation in the scoping process for the EIS does not entitle participants to become parties to the proceeding to which the EIS relates. Notice of a hearing regarding the application for a COL will be the subject of a future Federal Register notice.

The NRC staff will prepare and issue for comment the draft supplemental EIS, which will be the subject of separate notices and a separate public meeting. A copy of the draft supplemental EIS will be available for public inspection at the above-mentioned address, and one copy per request will be provided free of charge. After receipt and consideration of the comments, the NRC staff will prepare a final EIS, which will also be available for public inspection.

Information about the scoping process and development of the EIS may be obtained from Ms. Tamsen Dozier, Environmental Project Manager, by phone at (301) 415-2272 or via e-mail at Tamsen.Dozier@nrc.gov.

Dated at Rockville, Maryland, this 23rd day of May 2008.
For the Nuclear Regulatory Commission.
Nilesh Chokshi,
Deputy Division Director, Division of Site and Environmental Reviews, Office of New Reactors.

[FR Doc. E8-12128 Filed 5-29-08; 8:45 am]

BILLING CODE 7590-01-P